DEPARTMENT OF COMMERCE

International Trade Administration

[A-583-833]

Certain Polyester Staple Fiber From Taiwan: Notice of Extension of Time Limit for 2004-2005 Administrative Review

AGENCY: Import Administration, International Trade Administration, Department of Commerce.

EFFECTIVE DATE: May 26, 2006.

FOR FURTHER INFORMATION CONTACT: Devta Ohri or Andrew McAllister, AD/CVD Operations, Office 1, Import Administration, International Trade Administration, U.S. Department of Commerce, 14th Street and Constitution Avenue, NW., Washington, DC 20230; telephone (202) 482-3853 or (202) 482-1174, respectively.

SUPPLEMENTARY INFORMATION:

Statutory Time Limits

Section 751(a)(3)(A) of the Tariff Act of 1930, as amended (“the Act”), requires the Department of Commerce (“Department”) to issue the preliminary results of an administrative review within 245 days after the last day of the anniversary month of an order for which a review is requested and a final determination within 120 days after the date on which the preliminary results are published. If it is not practicable to complete the review within the time period, section 751(a)(3)(A) of the Act allows the Department to extend these deadlines to a maximum of 365 days and 180 days, respectively.

Background

On June 30, 2005, the Department published a notice of initiation of administrative review of the antidumping duty order on certain polyester staple fiber (“PSF”) from Taiwan, covering the period May 1, 2004, through April 30, 2005. See Initiation of Antidumping and Countervailing Duty Administrative Reviews, 70 FR 37749 (June 30, 2005). After being extended once, the preliminary results for the antidumping duty administrative review of certain PSF from Taiwan are due no later than May 24, 2006. See Certain Polyester Staple Fiber From Taiwan and the Republic of Korea: Notice of Extension of Time Limit for 2004-2005 Administrative Reviews, 71 FR 1508 (January 10, 2006).

Extension of Time Limits for Preliminary Results

The Department requires additional time to review and analyze Far Eastern Textile Limited's most recent supplemental questionnaire response. Thus, it is not practicable to complete this review within the previously established time limit (i.e., May 24, 2006). Therefore, the Department is extending the time limit for completion of the preliminary results to not later than May 31, 2006, in accordance with section 751(a)(3)(A) of the Act.

We are issuing and publishing this notice in accordance with sections 751(a)(3)(A) and 777(i)(1) of the Act.

Dated: May 22, 2006.
Stephen J. Claeys,
Deputy Assistant Secretary for Import Administration.

[FR Doc. E6-8183 Filed 5-25-06; 8:45 am]

BILLING CODE 3510-DS-S